DEPARTMENT OF TRANSPORTATION

Federal Aviation Administration

Public Notice for a Change in Use of Aeronautical Property at Barnes Municipal Airport, Westfield, MA

AGENCY: Federal Aviation Administration (FAA), DOT.

ACTION: Request for public comments.

SUMMARY: The FAA is requesting public comment on the City of Westfield, Massachusetts request to change a portion (14.99 acres) of Airport property from aeronautical use to non-aeronautical use. The property is located off of Falcon Drive in Westfield, Massachusetts and is identified by the City Assessors Office as Map 72R, Parcel 63. Upon disposition the property will be used for construction of a stormwater detention basin associated with the construction of a Target Distribution Center. The property was acquired under ADAP Project No. 7-25-0053-02.

The disposition of proceeds from the disposal of airport property will be in accordance with FAA's Policy and Procedures Concerning the Use of Airport Revenue, published in the Federal Register on February 16, 1999.

DATES: Comments must be received on or before May 23, 2008.

ADDRESSES: Documents are available for review by appointment by contacting Mr. Christopher Willenborg, Airport Manager at Barnes Municipal Airport, 110 Airport Road, Westfield, Massachusetts 01085-5331, Telephone 413-572-6275 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on April 7, 2008.
LaVerne F. Reid,
Manager, Airports Division, New England Region.

[FR Doc. E8-8738 Filed 4-22-08; 8:45 am]

BILLING CODE 4910-13-M